DEPARTMENT OF ENERGY

10 CFR Parts 429 and 430

[Docket No. EERE-2013-BT-TP-0009]

RIN 1904-AC97

Energy Conservation Program for Consumer Products: Test Procedures for Clothes Washers; Correction

AGENCY: Office of Energy Efficiency and Renewable Energy, Department of Energy.

ACTION: Final rule; correction.

SUMMARY: On August 5, 2015, the U.S. Department of Energy published a final rule amending the test procedures for clothes washers. This correction addresses a numbering error in the regulatory text, by which two provisions were inadvertently assigned the same section number. Neither the error nor the correction in this document affects the substance of the rulemaking or any of the conclusions reached in support of the final rule.

DATES: Effective Date: September 4, 2015.

FOR FURTHER INFORMATION CONTACT: Mr. Bryan Berringer, U.S. Department of Energy, Office of Energy Efficiency and Renewable Energy, Building Technologies Office, Mailstop EE-5B, 1000 Independence Avenue SW., Washington, DC 20585-0121. Telephone: (202) 586-0371. Email: Bryan.Berringer@ee.doe.gov.

Mr. Eric Stas, U.S. Department of Energy, Office of the General Counsel, GC-33, 1000 Independence Avenue SW., Washington, DC 20585-0121. Telephone: (202) 586-9507. Email: Eric.Stas@hq.doe.gov.

SUPPLEMENTARY INFORMATION: The U.S. Department of Energy (DOE) published a final rule in the Federal Register on August 5, 2015 (“the August 2015 final rule”), amending the test procedures for clothes washers. 80 FR 46729. In the rule, DOE made a drafting error in the regulatory text within section 3.10, Energy consumption for the purpose of determining the cycle selection(s) to be included in the energy test cycle, of Appendix J2 to subpart B of 10 CFR part 430, Uniform Test Method for Measuring the Energy Consumption of Automatic and Semi-automatic Clothes Washers. Specifically, DOE inadvertently designated two provisions as section 3.10.3 of that appendix. However, the substance of both provisions are correct and are to be retained in the test procedure. The effective date for this rule is September 4, 2015.

In order to remedy this error, DOE is renumbering the relevant provisions on page 46781 of the Federal Register in the August 2015 final rule at 80 FR 46729, as set forth below. The effective date of the August 2015 final rule at 80 FR 46729 remains September 4, 2015.

Correction

In FR Doc. 2014-18330 appearing on page 46729 in the issue of Wednesday, August 5, 2015, the following correction is made:

Appendix J2 to Subpart B of Part 430 [Corrected]

On page 46781, third column, section 3.10.4 is redesignated as 3.10.5, and the two sections 3.10.3 are redesignated as 3.10.3 and 3.10.4, respectively.

Issued in Washington, DC, on August 14, 2015.
Kathleen B. Hogan,
Deputy Assistant Secretary for Energy Efficiency, Energy Efficiency and Renewable Energy.

[FR Doc. 2015-20715 Filed 8-20-15; 8:45 am]

BILLING CODE 6450-01-P